DEPARTMENT OF TRANSPORTATION

Federal Aviation Administration

14 CFR Part 97

[Docket No. 30714; Amdt. No. 3364]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 18, 2010. The compliance date for each SIAP, associated Takeoff Minimums, and ODP is specified in the amendatory provisions.

The incorporation by reference of certain publications listed in the regulations is approved by the Director of the Federal Register as of March 18, 2010.

ADDRESSES: Availability of matters incorporated by reference in the amendment is as follows:

For Examination

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on March 5, 2010.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 8 APR 2010

Auburn, CA, Auburn Muni, Takeoff Minimums and Obstacle DP, Amdt 1

Columbia, CA, Columbia, GPS RWY 35, Orig, CANCELLED

Columbia, CA, Columbia, RNAV (GPS) RWY 35, Orig

Lakeport, CA, Lampson Field, Takeoff Minimums and Obstacle DP, Amdt 1

Mammoth Lakes, CA, Mammoth Yosemite, RNAV (GPS) RWY 27, Amdt 1

Shafter, CA, Shafter-Minter Field, RNAV (GPS) RWY 12, Orig

Shafter, CA, Shafter-Minter Field, VOR-A, Orig

Shafter, CA, Shafter-Minter Field, VOR OR GPS RWY 30, Orig, CANCELLED

Panama City, FL, Northwest Florida-Panama City Intl, ILS OR LOC/DME RWY 16, Orig

Panama City, FL, Northwest Florida-Panama City Intl, RNAV (GPS) RWY 16, Orig

Panama City, FL, Northwest Florida-Panama City Intl, RNAV (GPS) RWY 34, Orig

Panama City, FL, Northwest Florida-Panama City Intl, Takeoff Minimums and Obstacle DP, Orig

Tampa, FL, Tampa Intl, Takeoff Minimums and Obstacle DP, Amdt 8

Winder, GA, Barrow County, ILS OR LOC RWY 31, Orig

Winder, GA, Barrow County, LOC RWY 31, Amdt 8C, CANCELLED

Winder, GA, Barrow County, RNAV (GPS) RWY 13, Amdt 1

Winder, GA, Barrow County, RNAV (GPS) RWY 23, Orig

Winder, GA, Barrow County, RNAV (GPS) RWY 31, Amdt 1

Winder, GA, Barrow County, VOR/DME RNAV OR GPS RWY 23, Orig-C, CANCELLED

Belle Plaine, IA, Belle Plaine Muni, NDB RWY 36, Orig-A, CANCELLED

Knoxville, IA, Knoxville Muni, GPS RWY 15, Orig, CANCELLED

Knoxville, IA, Knoxville Muni, GPS RWY 33, Orig, CANCELLED

Knoxville, IA, Knoxville Muni, RNAV (GPS) RWY 15, Orig

Knoxville, IA, Knoxville Muni, RNAV (GPS) RWY 33, Orig

Knoxville, IA, Knoxville Muni, Takeoff Minimums and Obstacle DP, Orig

Mapleton, IA, James G Whiting Memorial Field, GPS RWY 2, Orig, CANCELLED

Mapleton, IA, James G Whiting Memorial Field, GPS RWY 20, Orig, CANCELLED

Mapleton, IA, James G Whiting Memorial Field, RNAV (GPS) RWY 2, Orig

Mapleton, IA, James G Whiting Memorial Field, RNAV (GPS) RWY 20, Orig

Carbondale/Murphysboro, IL, Southern Illinois, RNAV (GPS) RWY 18L, Orig

Joliet, IL, Joliet Rgnl, Takeoff Minimums and Obstacle DP, Amdt 4

Fort Wayne, IN, Fort Wayne Intl, RNAV (GPS) RWY 14, Amdt 1

Fort Wayne, IN, Fort Wayne Intl, RNAV (GPS) RWY 32, Amdt 1

Muncie, IN, Delaware County-Johnson Field, RNAV (GPS) RWY 20, Orig

Muncie, IN, Delaware County-Johnson Field, VOR RWY 20, Amdt 14

Covington, KY, Cincinnati/Northern Kentucky Intl, Takeoff Minimums and Obstacle DP, Amdt 1

Mount Sterling, KY, Mt Sterling-Montgomery County, Takeoff Minimums and Obstacle DP, Amdt 1

Hammond, LA, Hammond Northshore Rgnl, Takeoff Minimums and Obstacle DP, Amdt 1

Sanford, ME, Sanford Rgnl, RNAV (GPS) RWY 32, Orig

Marquette, MI, Sawyer Intl, Takeoff Minimums and Obstacle DP, Orig

Bemidji, MN, Bemidji Rgnl, ILS OR LOC RWY 31, Amdt 5

Bemidji, MN, Bemidji Rgnl, ILS OR LOC/DME RWY 25, Amdt 1

Bemidji, MN, Bemidji Rgnl, VOR/DME RWY 13, Orig

Bemidji, MN, Bemidji Rgnl, VOR/DME RWY 31, Orig

Cameron, MO, Cameron Memorial, NDB RWY 35, Amdt 3

Cameron, MO, Cameron Memorial, RNAV (GPS) RWY 17, Amdt 1

Cameron, MO, Cameron Memorial, RNAV (GPS) RWY 35, Amdt 1

Cameron, MO, Cameron Memorial, Takeoff Minimums and Obstacle DP, Orig

Jackson, MS, Hawkins Field, ILS OR LOC RWY 16, Amdt 5

Jackson, MS, Hawkins Field, RNAV (GPS) RWY 16, Amdt 1

Jackson, MS, Hawkins Field, RNAV (GPS) RWY 34, Amdt 1

Oak Island, NC, Brunswick County, RNAV (GPS) RWY 5, Amdt 1

Bassett, NE, Rock County, NDB RWY 31, Amdt 4

Bassett, NE, Rock County, RNAV (GPS) RWY 13, Amdt 1

Bassett, NE, Rock County, RNAV (GPS) RWY 31, Amdt 1

Bassett, NE, Rock County, Takeoff Minimums and Obstacle DP, Amdt 2

Rome, NY, Griffiss Intl, Takeoff Minimums and Obstacle DP, Amdt 1

Cincinnati, OH, Cincinnati Muni Airport-Lunken Field, Takeoff Minimums and Obstacle DP, Amdt 14

Oklahoma City, OK, Clarence E Page Muni, RNAV (GPS) RWY 35L, Amdt 2A

Collegeville, PA, Perkiomen Valley, RNAV (GPS) RWY 9, Amdt 1, CANCELLED

Collegeville, PA, Perkiomen Valley, RNAV (GPS) RWY 27, Orig, CANCELLED

Collegeville, PA, Perkiomen Valley, RNAV (GPS)-B, Orig

Collegeville, PA, Perkiomen Valley, RNAV (GPS)-C, Orig

Mount Pleasant, SC, Mt Pleasant Rgnl-Faison Field, RNAV (GPS) RWY 17, Orig

Mount Pleasant, SC, Mt Pleasant Rgnl-Faison Field, RNAV (GPS) RWY 35, Orig

Chattanooga, TN, Lovell Field, Takeoff Minimums and Obstacle DP, Amdt 11

Abilene, TX, Abilene Rgnl, RNAV (GPS) RWY 17L, Amdt 1

Abilene, TX, Abilene Rgnl, RNAV (GPS) RWY 35R, Amdt 1

Albany, TX, Albany Muni Airport, RNAV (GPS) RWY 17, Orig

Albany, TX, Albany Muni Airport, RNAV (GPS) RWY 35, Orig

Albany, TX, Albany Muni Airport, Takeoff Minimums and Obstacle DP, Orig

Carrizo Springs, TX, Dimmit County, GPS RWY 31, Orig, CANCELLED

Carrizo Springs, TX, Dimmit County, RNAV (GPS) RWY 31, Orig

El Paso, TX, El Paso Intl, GPS RWY 4, Orig-B, CANCELLED

El Paso, TX, El Paso Intl, RNAV (GPS) RWY 4, Orig

Henderson, TX, Rusk County, Takeoff Minimums and Obstacle DP, Amdt 2

Huntsville, TX, Huntsville Muni, RNAV (GPS) RWY 18, Orig-A

Danville, VA, Danville Rgnl, ILS OR LOC RWY 2, Amdt 4

Danville, VA, Danville Rgnl, Takeoff Minimums and Obstacle DP, Amdt 1

Danville, VA, Danville Rgnl, VOR RWY 2, Amdt 14

Danville, VA, Danville Rgnl, VOR RWY 20, Amdt 2

Richmond, VA, Chesterfield County, RNAV (GPS) RWY 15, Amdt 1

Wise, VA, Lonesome Pine LOC/DME RWY 24, Orig

Rhinelander, WI, Rhinelander-Oneida County, ILS OR LOC RWY 9, Amdt 8

Rhinelander, WI, Rhinelander-Oneida County, RNAV (GPS) RWY 9, Amdt 1

Rhinelander, WI, Rhinelander-Oneida County, RNAV (GPS) RWY 15, Amdt 1

Rhinelander, WI, Rhinelander-Oneida County, RNAV (GPS) RWY 27, Amdt 1

Rhinelander, WI, Rhinelander-Oneida County, RNAV (GPS) RWY 33, Amdt 1

Rhinelander, WI, Rhinelander-Oneida County, RNAV (GPS) Z RWY 27, Orig, CANCELLED

West Bend, WI, West Bend Muni, NDB OR GPS RWY 31, Amdt 10A, CANCELLED

West Bend, WI, West Bend Muni, RNAV (GPS) RWY 6, Orig

West Bend, WI, West Bend Muni, RNAV (GPS) RWY 13, Orig

West Bend, WI, West Bend Muni, RNAV (GPS) RWY 24, Orig

West Bend, WI, West Bend Muni, RNAV (GPS) RWY 31, Orig

West Bend, WI, West Bend Muni, VOR/DME RNAV OR GPS RWY 13, Amdt 5A, CANCELLED

[FR Doc. 2010-5286 Filed 3-17-10; 8:45 am]

BILLING CODE 4910-13-P